DEPARTMENT OF COMMERCE

National Oceanic and Atmospheric Administration

RIN 0648-XD243

Western Pacific Fishery Management Council; Public Meetings

AGENCY: National Marine Fisheries Service (NMFS), National Oceanic and Atmospheric Administration (NOAA), Commerce.

ACTION: Notice of public meetings.

SUMMARY: The Western Pacific Fishery Management Council (Council) will hold a meeting of its Pelagics Plan Team (PPT), in Honolulu, HI, to discuss fishery issues and develop recommendations for future management.

DATES: The meetings of the PPT will be held between May 7-9 2014, from 8:30 a.m. to 5 p.m.

ADDRESSES: The meetings will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION:

The PPT will meet at the Council Conference Room to discuss the following agenda items:

Wednesday, May 7, 2014, 8.30 a.m.

1. Introduction

2. Annual Report review

a. Review 2013 Annual Report modules and recommendations

i. Commonwealth of the Northern Mariana Islands

ii. American Samoa

iii. Guam

iv. Hawaii

v. International

b. 2012 Annual Report region wide recommendations

Thursday-Friday, May 8-9, 2014, 8.30 a.m.

3. 10th Meeting of Western and Central Pacific Fishery Commission

4. South Pacific albacore and American Samoa longline

5. Biological Opinions for deep set tuna fishery and American Samoa longline fishery

6. Outstanding Fisheries Ecosystem Plan amendments

7. Recreational Fisheries

8. Hawaii yellowfin stock assessment

9. Marianas shark survey

10. Electronic monitoring and reporting

11. Seabird-longline fishery interactions

12. Other business

13. Public comment

14. Pelagic Plan Team Recommendations

The order in which the agenda items are addressed may change. The PPT will meet as late as necessary to complete scheduled business.

Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 11, 2014.
Tracey L. Thompson,
Acting Deputy Director, Office of Sustainable Fisheries, National Marine Fisheries Service.

[FR Doc. 2014-08624 Filed 4-15-14; 8:45 am]

BILLING CODE 3510-22-P